DEPARTMENT OF AGRICULTURE

Forest Service

Information Collection; Certification of Concrete Construction

AGENCY: Forest Service, USDA.

ACTION: Notice; request for comment.

SUMMARY: In accordance with the Paperwork Reduction Act of 1995, the Forest Service is seeking comments from all interested individuals and organizations on the new information collection, Certification of Concrete Construction.

DATES: Comments must be received in writing on or before November 3, 2020 to be assured of consideration. Comments received after that date will be considered to the extent practicable.

ADDRESSES: Comments concerning this notice should be addressed to Intermountain Region, Regional Office-Engineering, 324 25th Street, Ogden, Utah 84401. Comments also may be submitted via facsimile to 801-625-5201 or by email to: curt.panter@usda.gov. Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at 324 25th Street, Ogden, Utah 84401, Room #3427 during normal business hours. Visitors are encouraged to call ahead to 801-726-2213 or 801-625-5235 to facilitate entry to the building. The public may request an electronic copy of the draft supporting statement and/or any comments received be sent via return email. Requests should be emailed to curt.panter@usda.gov.

FOR FURTHER INFORMATION CONTACT: Curt Panter, Intermountain Region, Regional Office-Engineering, 801-726-2213. Individuals who use telecommunication devices for the deaf (TDD) may call the Federal Information Relay Service (FIRS) at 1-800-877-8339 twenty-four hours a day, every day of the year, including holidays.

SUPPLEMENTARY INFORMATION: Title: Certification of Concrete Construction.

OMB Number: 0596-NEW.

Type of Request: New.

Abstract: The standard Forest Service special use permit requires the permit holder to be responsible for the design, construction, operation and maintenance of permitted facilities and public safety. Forest Service ski area permit administration through monitoring obtain assurance of the permit holder's compliance with terms and conditions of the special use permit. It is also appropriate, and suitable, to rely on professional certifications provided by the permit holder from licensed architects and engineers employed by or under contract to the permit holder to assist in obtaining this assurance. This is the practice used for authorized facilities on National Forest Service land. Generally, the Forest Service is most concerned about potential impacts to NFS land and resources from the permitted facilities and directs its attention to design features and monitoring facilities to protect those resources and ensure public safety. Forest Service Special Use Permit FS-2700-5b (hereafter-SUP) and Forest Service Manual (FSM) 7320 and 7330 outline what plans and specifications submittals are required for permitted facilities prior to construction, acceptance testing, and prior to Authorized Officer granting authorization to permit holder for the public operation of these facilities. A Certification of Concrete Construction outlines what level of review and quality assurance by a qualified engineer is required and necessary for authorized privately owned facility construction permitted on Forest Service lands.

FSM 2340, 7320 and 7330 requires that the permit holder submit a Certification of Construction from a Qualified Engineer for privately owned facilities such as passenger ropeways, aerial adventure courses, and other natural resource-based recreation facilities (hereafter-recreation facility). This Certification of Concrete Construction requirement is also a product of the Forest Service adopting the American National Standard Institute (ANSI) B77 Standard for Passenger Ropeways as our Governing Standard for passenger ropeways and American Society for Testing and Materials (ASTM) F24 Standard for authorized aerial adventure courses and recreation facilities. ANSI B77, section 1.5 outlines and requires a Quality Assurance (QA) program be developed and utilized to ensure the integrity of the design, manufacturer, construction, operation, and maintenance of passenger ropeways. ANSI B77, section 1.5.3 “states that for new or modified ropeways, a Qualified Engineer shall certify to the owner that the construction and installation has been completed in accordance with the final design criteria for such work.”

Therefore, this Certification of Concrete Construction collection is appropriate and suitable documentation to validate permit holder compliance outlined in SUP and FSM 2340, 7320, 7330, and ANSI and ASTM adopted standards.

1. Briefly explain the circumstances that make the collection of information necessary. If applicable, what law requires or authorizes this information to be collected? Forest Service SUP requires that Authorized Officers receive assurances from licensed architects and engineers that certify that the construction has been completed in accordance with the final design criteria for such work. SUP Clause IIB requires that “all plans for development, layout, construction, reconstruction, or alteration of improvements in the permit area, as well as revisions to those plans, must be prepared by a licensed engineer, architect, landscape architect, or other qualified professional acceptable to the Authorized Officer.”

2. How will the information be collected? The Certification of Concrete Construction will be a submittal requirement prior to Forest Service approval to permit holder to conduct acceptance testing of a passenger ropeway, aerial adventure course, or recreation facility which is an ANSI B77 and ASTM F24 requirement before public operation.

3. Who will collect the information? Plans and specifications including Certification of Concrete Construction must be submitted to the Authorized Officer before public operation. Forest Service engineering personnel will also receive a copy and review Certification of Concrete Construction according to required Forest Service ropeway engineering plans and specifications review process.

4. What information will be collected? If the foundation excavations were inspected and documented by qualified personnel before concrete placement. If the soil bearing pressure/rock conditions meet or exceed the specifications of the design engineer. If concrete cylinder tests were completed by qualified personnel per design engineer specifications. If samples of the concrete placed in each terminal and each tower foundation were taken and the concrete meets the strength requirements specified by the design engineer. (A summary of the test results is to be attached). If the size of concrete foundations as built and the location, number and size of reinforcing steel, anchor bolts, and rock anchoring (if applicable) were inspected and documented by qualified personnel and are as specified by the design engineer. If the quality of backfill and compaction tests were completed and documented by qualified personnel and comply with design engineer specifications for each terminal and each tower foundation. A certification statement from a Qualified Engineer.

5. From whom will the information be collected? Ski area permit holder.

6. How will the information be used? To determine passenger ropeway, aerial adventure course and recreation facility installer's compliance with ANSI B77 and ASTM construction and quality assurance standards.

7. Who will evaluate or analyze the information? Forest Service Engineering personnel.

8. Describe the consequence to Federal programs or policy if the collection is not conducted or conducted less frequently. Facilities may not meet requirements of adopted safety standards necessary for public safety.

Affected Public: Recreating public which use permitted passenger ropeways, aerial adventure courses and other recreation facilities operated at ski areas authorized to operate on Forest Service lands.

Estimate of Burden per Response: One hour for Qualified Engineer to analyze final construction data and information to inform the certification and complete and sign form.

Estimated Annual Number of Respondents: 8-9.

Estimated Annual Number of Responses per Respondent: 8.

Estimated Total Annual Burden on Respondents: 72 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: August 31, 2020.
Rosana Barkawi,
Assistant Director, Engineering.

[FR Doc. 2020-19622 Filed 9-3-20; 8:45 am]

BILLING CODE 3411-15-P